DEPARTMENT OF ENERGY

Federal Energy Regulatory Commission

[Project No. 13331-001]

City of Quincy, IL; Notice of Intent To File License Application, Filing of Pre-Application Document, and Approving Use of the Traditional Licensing Process

September 24, 2010.

a. Type of Filing: Notice of Intent (NOI) to File License Application and Request to Use the Traditional Licensing Process.

b. Project No. 13331-001.

c. Dated Filed: August 12, 2010.

d. Submitted By: City of Quincy, Illinois.

e. Name of Project: Upper Mississippi River Lock and Dam No. 24 Project.

f. Location: At the U.S. Army Corps of Engineers' (Corps') Upper Mississippi River Lock and Dam No. 24 on the Mississippi River in Calhoun County, Illinois, and Pike County, Missouri, near the town of Clarksville, Missouri. As currently proposed in the NOI and the Pre-Application Document (PAD) the project would occupy about 10 acres of United States lands administered by the Corps.

g. Filed Pursuant to: Federal Power Act, 16 U.S.C. 808(b)(1) and 18 CFR 5.5 of the Commission's regulations.

h. Potential Applicant Contact: Mr. Chuck Bevelheimer, Director, Planning and Development, City of Quincy, 730 Maine Street, Quincy, IL 62301; or at (217) 228-4500.

i. FERC Contact: Joseph Adamson at (202) 502-8085; or e-mail at joseph.adamson@ferc.gov.

j. On August 12, 2010, the City of Quincy, Illinois filed its request to use the Traditional Licensing Process and provided public notice of its request. In a letter dated September 22, 2010, the Director, Division of Hydropower Licensing, approved the City of Quincy, Illinois' request to use the Traditional Licensing Process.

k. With this notice, we are initiating informal consultation with: (a) The U.S. Fish and Wildlife Service under section 7 of the Endangered Species Act and the joint agency regulations thereunder at 50 CFR, Part 402; and (b) the Illinois and Missouri Historic Preservation Officers, as required by section 106 of the National Historic Preservation Act, and the implementing regulations of the Advisory Council on Historic Preservation at 36 CFR 800.2.

l. With this notice, we are designating the City of Quincy, Illinois as the Commission's non-federal representative for carrying out informal consultation, pursuant to section 7 of the Endangered Species Act, and section 106 of the National Historic Preservation Act.

m. The City of Quincy, Illinois filed a PAD, including a proposed process plan and schedule with the Commission, pursuant to 18 CFR 5.5 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, or for TTY, (202) 502-8659. A copy is also available for inspection and reproduction at the address in paragraph h.

o. Register online at http://www.ferc.gov/docs-filing/esubscription.asp to be notified via e-mail of new filing and issuances related to this or other pending projects. For assistance, contact FERC Online Support.

Kimberly D. Bose,
Secretary.

[FR Doc. 2010-24934 Filed 10-4-10; 8:45 am]

BILLING CODE 6717-01-P